DEPARTMENT OF HEALTH AND HUMAN SERVICES

Agency for Toxic Substances and Disease Registry

[60Day-17-17IV; Docket No. ATSDR-2016-0008]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing efforts to reduce public burden and maximize the utility of government information, invites the general public and other Federal agencies to take this opportunity to comment on proposed and/or continuing information collections, as required by the Paperwork Reduction Act of 1995. This notice invites comment on the information collection request titled “APPLETREE Performance Measures.” Under the APPLETREE cooperative agreement program (Funding Opportunity Announcement No. CDC-RFA-TS17-1701), awardees will be required to submit an Annual Plan of Work (APOW), several standardized outcome and performance measures, and an Annual Performance Report (APR).

DATES: Written comments must be received on or before March 6, 2017.

ADDRESSES: You may submit comments, identified by Docket No. ATSDR-2016-0008 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

APPLETREE Performance Measures—New—Agency for Toxic Substances and Disease Registry (ATSDR).

Background and Brief Description

The Agency for Toxic Substances and Disease Registry (ATSDR) serves the public through responsive public health actions to promote healthy and safe environments and to prevent harmful exposures in communities across the nation. ATSDR's Partnership to Promote Local Efforts to Reduce Environmental Exposure (APPLETREE) Program is critical to ATSDR's success in this mission. The purpose of the program is to: (1) Identify pathways of exposure to hazardous substances at hazardous waste sites and releases; (2) identify, implement, and coordinate public health interventions to reduce exposures to hazardous substances which occur at levels of health concern; and (3) provide training at the state level to promote and achieve the safe siting of child care facilities in the United States. The APPLETREE Program is also a mechanism which enhances ATSDR's communication with state, local, and federal health and environmental agencies. This program is authorized under Sections 104(i)(15) of the Comprehensive Environmental Response, Compensation, and Liability Act (CERCLA) of 1980, as amended by the Superfund Amendments and Reauthorization Act (SARA) of 1986 [42 U.S.C. 9604(i)(15)].

Under the new three-year APPLETREE cooperative agreement (Funding Opportunity Announcement No. CDC-RFA-TS17-1701), eligible applicants include federally recognized American Indian/Alaska Native tribal governments; American Indian/Alaska native tribally designated organizations; political subdivisions of states (in consultation with states); and state and local governments or their bona fide agents. ATSDR technical project officers (TPOs) will assist approximately 25 APPLETREE awardees to address site-specific issues involving human exposure to hazardous substances. Key capacities include identification of human exposure pathways at ATSDR sites, education of affected communities and local health professionals about site contamination and potential health effects; making appropriate recommendations to prevent exposure; reviewing health outcome data to evaluate potential links between site contaminants and community health; and documenting the effects of environmental remediation on health.

ATSDR will collect information related to awardee activities, and the process and outcome performance measures outlined by the cooperative agreement program. Information will be used to monitor progress toward program goals and objectives, and for quality improvement.

Annual Plan of Work (APOW): Each budget year, awardees shall deliver an APOW. The APOW will include awardee workplans for site-specific activities, environmental health assessment outputs, and overarching milestones for child care safe siting activities. The estimated annual time burden to prepare and report the APOW is eight hours per awardee.

ATSDR Health Education Activity Tracking (HEAT) Performance Measure: For each environmental health assessment and health education activity conducted at ATSDR sites, APPLETREE awardees shall quantitatively assess and report efforts to educate community members about site recommendations and health risks using indicators to assess community understanding of site findings about health risks and community understanding of agency recommendations to reduce health risks. This information will be entered in to the ATSDR HEAT system for each activity at ATSDR sites. Based on past experience, ATSDR assumes a maximum of 925 activities will be entered into the HEAT database each year; therefore, each of the 25 awardees will enter an average of 37 activities into the HEAT database.

ATSDR Site Impact Assessment (SIA) Performance Measure: For each environmental health assessment and health education activity conducted at ATSDR sites, awardees shall estimate and report the number of people protected from exposure to toxic substances at each site where implementation of agency recommendations has taken place and at each child care center where safe siting guidelines have been implemented. To the extent possible, awardees shall estimate the disease burden prevented due to the implementation of site recommendations and safe siting guidelines. This information will be entered into the ATSDR SIA database by the awardee. ATSDR assumes a maximum of 150 ATSDR sites will undergo an environmental assessment, or an average of 6 sites per awardee, per year.

APPLETREE Annual Performance Report (APR): Awardees must provide an APR at the end of each budget year. The report must include a minimum of three site activity success stories; a synopsis of the number of people involved in environmental health assessments at sites, the number of public health recommendations accepted, the number of health education activities conducted at sites; and the outcomes achieved during the budget year. The APR must also demonstrate annual progress in implementing child care safe siting policies in their jurisdictions over the three-year program period. ATSDR assumes that ASARs will take 15 burden hours for each awardee to prepare.

ATSDR seeks to request a three-year clearance from OMB to collect the necessary information for this project.

The awardee reporting is a requirement of the APPLETREE cooperative agreement. The total annual time burden requested is 635 hours.

Estimated Annualized Burden Hours
Type of respondents | Form name | Number of respondents per year | Number of responses per respondent per year | Average burden per response (in hours) | Total burden (in hours)
APPLETREE Awardees | Annual Plan of Work (APOW) | 25 | 1 | 8 | 200
| ATSDR Health Education Activity Tracking (HEAT) Form | 25 | 37 | 3/60 | 47
| ATSDR Site Impact Assessment (SIA) Form | 25 | 6 | 5/60 | 13
| APPLETREE Annual Performance Report (APR) | 25 | 1 | 15 | 375
Total |  |  |  |  | 635

Leroy A. Richardson,
Chief, Information Collection Review Office, Office of Scientific Integrity, Office of the Associate Director for Science, Office of the Director, Centers for Disease Control and Prevention.

[FR Doc. 2016-31773 Filed 12-30-16; 8:45 am]

BILLING CODE 4163-18-P